INTERNATIONAL TRADE COMMISSION

[Investigation No. 337-TA-1187]

Certain Electronic Devices With Optical Filters and Optical Sensor Systems and Components Thereof; Notice of Commission Determination Not To Review an Initial Determination Terminating the Investigation Based on Settlement; Termination of the Investigation

AGENCY: International Trade Commission.

ACTION: Notice.

SUMMARY: Notice is hereby given that the U.S. International Trade Commission (“Commission”) has determined not to review an initial determination (“ID”) (Order No. 23) of the presiding administrative law judge (“ALJ”) granting a joint motion to terminate the investigation in its entirety based on settlement.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 27, 2019, based on a complaint filed by Viavi Solutions Inc. of San Jose, California (“Viavi”). 84 FR 71464 (Dec. 27, 2019). The complaint, as supplemented, alleges violations of section 337 of the Tariff Act of 1930, as amended, 19 U.S.C. 1337, in the importation into the United States, the sale for importation, and the sale within the United States after importation of certain electronic devices with optical filters and optical sensor systems and components thereof by reason of infringement of certain claims of U.S. Patent Nos. 9,588,269; 9,945,995; and 10,222,526. Id. The Commission's notice of investigation named as respondents Optrontec Inc. of Changwon, Republic of Korea (“Optrontec”); and LG Electronics, Inc. of Seoul, Republic of Korea; LG Innotek Co., Ltd. of Seoul, Republic of Korea; and LG Electronics U.S.A., Inc. of Englewood Cliffs, New Jersey (collectively, “LG”). Id. The Office of Unfair Import Investigations (“OUII”) is participating in this investigation. Id.

The Commission previously terminated the investigation with respect to LG based on settlement. Order No. 9 (Feb. 27, 2020), not reviewed Notice (Mar. 18, 2020). Optrontec was thus the sole remaining respondent in the investigation.

On June 19, 2020, Viavi and Optronic jointly moved to terminate the investigation based on settlement. On June 25, 2020, OUII filed a response in support of the motion.

On July 13, 2020, the ALJ issued the subject ID, granting the motion and terminating the investigation based on settlement. No petitions for review of the ID were filed.

The Commission has determined not to review the subject ID. The investigation is hereby terminated in its entirety.

The Commission vote for this determination took place on July 31, 2020.

The authority for the Commission's determination is contained in section 337 of the Tariff Act of 1930, as amended (19 U.S.C. 1337), and in part 210 of the Commission's Rules of Practice and Procedure (19 CFR part 210).

By order of the Commission.
Issued: July 31, 2020.
Lisa Barton,
Secretary to the Commission.

[FR Doc. 2020-17140 Filed 8-5-20; 8:45 am]

BILLING CODE 7020-02-P